FEDERAL COMMUNICATIONS COMMISSION

47 CFR Part 73

[DA 00-945; MM Docket No. 99-83; RM-9500; RM-9722]

Radio Broadcasting Services; Saranac Lake and Westport, NY

AGENCY: Federal Communications Commission.

ACTION: Final rule.

SUMMARY: The Commission, at the request of Dana Puopolo, allots Channel 296A to Saranac Lake, NY, as the community's third local FM service. See 64 FR 14422, March 25, 1999. At the request of Westport Broadcasting, the Commission substitutes Channel 275A for Channel 273A at Westport, NY, and modifies the license of Station WCLX to specify the alternate Class A channel. Channel 296A can be allotted to Saranac Lake in compliance with the Commission's minimum distance separation requirements, with respect to all domestic allotments, without the imposition of a site restriction, at coordinates 44-19-48 NL; 74-08-00 WL. Channel 275A can be allotted to Westport in compliance with the Commission's minimum distance separation requirements, with respect to all domestic allotments, with a site restriction of 4.6 kilometers (2.9 miles) northeast, at coordinates 44-13-16 NL; 73-24-42 WL, to accommodate WB's desired transmitter site. Both Saranac Lake and Westport are located within 320 kilometers (200 miles) of the U.S.-Canadian border and thus Canadian concurrence in the allotments is required. SeeSupplementary Information.

DATES: Effective June 12, 2000.

FOR FURTHER INFORMATION CONTACT: Leslie K. Shapiro, Mass Media Bureau, (202) 418-2180.

SUPPLEMENTARY INFORMATION: This is a synopsis of the Commission's Report and Order, MM Docket No. 99-83, adopted April 19, 2000, and released April 28, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036. In addition, Channel 296A at Saranac Lake will be short-spaced to Station CITE-FM, Channel 297C1, Montreal, Quebec, Canada, and Channel 275A at Westport will be short-spaced to Station CITE1, Channel 274C1, Sherbrooke, Quebec, Canada. Therefore, concurrence in these allotments, as specially-negotiated short-spaced allotments, was requested in October, 1999, but has not yet been received. However, rather than delay any further the opportunity to file applications for these channels, we will allot Channel 296A at Saranac Lake and Channel 275A at Westport at this time. If a construction permit is granted prior to the receipt of formal concurrence in the allotment by the Canadian Government, the construction permit will include the following condition: “Operation with the facilities specified herein is subject to modification, suspension, or termination without right to hearing, if found by the Commission to be necessary in order to conform to the Canada-United States FM Broadcast Agreement.” A filing window for Channel 296A at Saranac Lake will not be opened at this time. Instead, the issue of opening a filing window for this channel will be addressed by the Commission in a subsequent order.

List of Subjects in 47 CFR Part 73

Radio broadcasting.

Part 73 of Title 47 of the Code of Federal Regulations is amended as follows:

PART 73—[AMENDED]

1. The authority citation for Part 73 continues to read as follows:

Authority: 47 U.S.C. 154, 303, 334. 336.

§ 73.202 [Amended]

2. Section 73.202(b), the Table of FM Allotments under New York, is amended by adding Channel 296A at Saranac Lake, and removing Channel 273A and adding Channel 275A at Westport.

Federal Communications Commission.
John A. Karousos,
Chief, Allocations Branch, Policy and Rules Division, Mass Media Bureau.

[FR Doc. 00-13137 Filed 5-24-00; 8:45 am]

BILLING CODE 6712-01-P